LEGAL SERVICES CORPORATION

Sunshine Act Meetings

TIME AND DATE: The Finance Committee of the Legal Services Corporation Board of Directors will meet virtually on June 11, 2024. The meeting will commence at 11:30 a.m. EDT and will continue until the conclusion of the Committee's agenda.

PLACE:

Public Notice of Virtual Meeting: LSC will conduct the June 11, 2024 meeting via Zoom.

Public Observation: Unless otherwise noted herein, the Finance Committee meeting will be open to public observation via Zoom. Members of the public who wish to participate remotely in the public proceedings may do so by following the directions provided below.

Directions for Open Sessions

June 11, 2024

To join the Zoom meeting by computer, please use this link.

• https://lsc-gov.zoom.us/j/82495594135?pwd=SwpG9IcWZK3wAaZad1Y3HS6kp8VyMz.1

• Meeting ID: 824 9559 4135

• Passcode: 61124

To join the Zoom meeting by telephone, please dial one of the following numbers:

○ 301 715 8592 (Washington, DC)

○ +1 646 876 9923 (New York)

○ +1 312 626 6799 (Chicago)

○ +1 253 215 8782 (Tacoma)

○ +1 346 248 7799 (Houston)

○ +1 408 638 0968 (San Jose)

○ Meeting ID: 824 9559 4135

○ Passcode: 61124

Once connected to Zoom, please immediately mute your computer or telephone. Members of the public are asked to keep their computers or telephones muted to eliminate background noise. To avoid disrupting the meetings, please refrain from placing the call on hold if doing so will trigger recorded music or other sound.

From time to time, the Finance Committee Chair may solicit comments from the public. To participate in the meeting during public comment, use the `raise your hand' or `chat' functions in Zoom and wait to be recognized by the Chair before stating your questions and/or comments.

STATUS: Open.

MATTERS TO BE CONSIDERED:

1. Approval of Meeting Agenda

2. Public Comment Regarding LSC's Fiscal Year 2026 Budget Request

3. Public Comment on Other Matters

4. Consider and Act on Other Business

5. Consider and Act on Adjournment of Meeting

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b.)

Dated: May 29, 2024.
Stefanie Davis,
Deputy General Counsel, Legal Services Corporation.

[FR Doc. 2024-12158 Filed 5-30-24; 11:15 am]

BILLING CODE 7050-01-P